DEPARTMENT OF COMMERCE

United States Patent and Trademark Office

[Docket No. PTO-C-2011-0054]

Discontinuing the Mass Mailing of Paper Fee Schedules to Registered Attorneys, Agents, and Deposit Account Holders

AGENCY: United States Patent and Trademark Office, Commerce.

ACTION: Notice.

SUMMARY: The United States Patent and Trademark Office (USPTO) is discontinuing the mass mailing of revised paper fee schedules to registered attorneys, agents, and deposit account holders when fees are adjusted due to enactment of legislation or fluctuations in the Consumer Price Index. Since a substantial majority of filings and fee payments are submitted on-line, and the most up-to-date fee schedule is always available and maintained on-line, the USPTO has discontinued the mass mailing of the paper fee schedules. The current fee schedule is essentially built into the on-line systems (e.g., EFS-Web, TEAS, accessible through the USPTO home page, etc.), which display the current fee amounts required at the time of submitting the payment.

DATES: Effective Date: November 3, 2011.

FOR FURTHER INFORMATION CONTACT: Matthew Lee, Office of Finance, Receipts Accounting Division, by telephone at (571) 272-6343; or by mail addressed to: Mail Stop 16, Director of the USPTO, P.O. Box 1450, Alexandria, VA 22313-1450.

SUPPLEMENTARY INFORMATION: The USPTO is discontinuing the mass mailing of revised paper fee schedules that have been sent to registered attorneys, agents, and deposit account holders since the early 1990s. Since 1998, the revised paper fee schedules have always indicated that the most up-to-date fee amounts and information are maintained on the USPTO Web site. This availability of the fee amounts and information renders paper fee schedules obsolete.

The purpose of the mass mailings was to provide the practitioners with advance notice of upcoming fee adjustments at a time when filings and fee payments were mainly submitted by mail. Due to the lead time needed for finalizing, bulk printing, and mass mailing of the paper fee schedules, the paper fee schedules have sometimes been mailed out weeks after the new fees are already in effect. Currently over 90 percent of patent applications are filed on-line via EFS-Web, and over 98 percent of trademark applications are filed on-line via TEAS.

The official, current USPTO fee schedule will continue to be available and maintained on the USPTO Web site at http://www.uspto.gov/about/offices/cfo/finance/fees.jsp. Additionally, those wishing to receive a paper copy of the current USPTO fee schedule can obtain this copy by calling the USPTO Contact Center at (571) 272-1000 or (800) 786-9199.

Dated: October 28, 2011.
Teresa Stanek Rea,
Deputy Under Secretary of Commerce for Intellectual Property and Deputy Director of the United States Patent and Trademark Office.

[FR Doc. 2011-28536 Filed 11-2-11; 8:45 am]

BILLING CODE 3510-16-P